INTERNATIONAL TRADE COMMISSION

[Investigation No. 731-TA-683 (Fourth Review)]

Fresh Garlic From China

Determination

On the basis of the record ¹ developed in the subject five-year review, the United States International Trade Commission (“Commission”) determines, pursuant to the Tariff Act of 1930 (“the Act”), that revocation of the antidumping duty order on fresh garlic from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on April 3, 2017 (82 FR 16223) and determined on July 7, 2017 that it would conduct an expedited review (82 FR 37237, August 9, 2017).

The Commission made this determination pursuant to section 751(c) of the Act (19 U.S.C. 1675(c)). It completed and filed its determination in this review on October 19, 2017. The views of the Commission are contained in USITC Publication 4735 (October 2017), entitled Fresh Garlic from China: Investigation No. 731-TA-683 (Fourth Review).

By order of the Commission.
Issued: October 19, 2017.
Lisa R. Barton,
Secretary to the Commission.

[FR Doc. 2017-23040 Filed 10-23-17; 8:45 am]

BILLING CODE 7020-02-P